DEPARTMENT OF LABOR

Employment and Training Administration

[TA-W-61,991]

Superior Studs, LLC, a Wholly Owned Subsidiary of Swanson Group Manufacturing, LLC, Glide, OR; Notice of Termination of Investigation

Pursuant to section 221 of the Trade Act of 1974, as amended, an investigation was initiated on August 16, 2007 in response to a petition filed by a company official on behalf of workers at Superior Studs, LLC, a wholly owned subsidiary of Swanson Group Manufacturing, LLC, Glide, Oregon. The workers at the subject facility produced stud lumber.

The petitioner has requested that the petition be withdrawn. Consequently, the investigation has been terminated.

Signed in Washington, DC, this 8th day of November 2007.
Richard Church,
Certifying Officer, Division of Trade Adjustment Assistance.

[FR Doc. E7-22743 Filed 11-20-07; 8:45 am]

BILLING CODE 4510-FN-P